ENVIRONMENTAL PROTECTION AGENCY

[EPA-HQ-OECA-2013-0324; FRL-9974-73-OEI]

Information Collection Request Submitted to OMB for Review and Approval; Comment Request; NESHAP for Marine Tank Vessel Loading Operations (Renewal)

AGENCY: Environmental Protection Agency (EPA).

ACTION: Notice.

SUMMARY: The Environmental Protection Agency (EPA) has submitted an information collection request (ICR)—NESHAP for Marine Tank Vessel Loading Operations (Renewal), EPA ICR Number 1679.10, OMB Control Number 2060-0289—to the Office of Management and Budget (OMB) for review and approval in accordance with the Paperwork Reduction Act. This is a proposed extension of the ICR, which is currently approved through April 30, 2018. Public comments were previously requested via the Federal Register on June 29, 2017 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before May 21, 2018.

ADDRESSES: Submit your comments, referencing Docket ID Number EPA-HQ-OECA-2013-0324, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Marine Tank Vessel Loading Operations (40 CFR part 63, subpart Y) establishes Maximum Achievable Control Technology (MACT) standards for existing facilities and new facilities that load marine tank vessels with petroleum or gasoline. These facilities have aggregate actual hazardous air pollutants (HAP) emissions of 10 tons or more of each individual HAP, or 25 tons or more of all HAP combined. This NESHAP regulation also established reasonably-available control technology (RACT) standards to such facilities with an annual throughput of 10 million or more barrels of gasoline or 200 million or more barrels of crude oil. The NESHAP regulation was amended in 2011 to include emission standards for two marine tank vessel loading operation (MTVLO) subcategories not included in the original rule. These subcategories are facilities with MTVLO that emit less than 10 tons per year of each individual HAP and less than 25 tons per year of all HAP combined, and that are located at major sources of HAP loading more than 1 million barrels per year of gasoline, and facilities located more than 0.5 miles from shore. The 2011 amendment also added a provision to require electronic submittal of performance test results. This ICR has been updated to reflect the additional industry burden associated with the amended standards. The 2015 amendments did not add information collection requirements beyond those currently required under the applicable regulations.

In general, all NESHAP standards require initial notifications, performance tests, and periodic reports by the owners/operators of the affected facilities. They are also required to maintain records of the occurrence and duration of any startup, shutdown, or malfunction in the operation of an affected facility or any period during which the monitoring system is inoperative. These notifications, reports, and records are essential in determining compliance, and are required of all affected facilities subject to NESHAP. Any owner/operator subject to the provisions of this part shall maintain a file of these measurements, and retain the file for at least five years following the date of such measurements, maintenance reports, and records. All reports are sent to the delegated state or local authority. If there is no such delegated authority, the reports are sent directly to the EPA regional office.

Form Numbers: None.

Respondents/affected entities: Owners or operators of marine tank vessel loading operations.

Respondent's obligation to respond: Mandatory (40 CFR part 63, subpart Y).

Estimated number of respondents: 804 (total).

Frequency of response: Initially and annually.

Total estimated burden: 10,700 hours (per year). Burden is defined at 5 CFR 1320.3(b).

Total estimated cost: $1,130,000 (per year), which includes no annualized capital/startup or operation & maintenance costs.

Changes in the Estimates: There is a small increase in the total estimated burden as currently identified in the OMB Inventory of Approved Burdens. This adjustment is due to a change in a previous assumption. In accordance with the Terms of Clearance for OMB's previous approval, this ICR renewal package assumes all existing respondents will have to familiarize with the regulatory requirements each year. Additionally, there is a decrease in the number of responses from 843 to 842 to remove the affirmative defense requirement since those provisions have been removed from the rule since the last renewal.

Courtney Kerwin,
Director, Regulatory Support Division.

[FR Doc. 2018-08333 Filed 4-19-18; 8:45 am]

BILLING CODE 6560-50-P